DEPARTMENT OF AGRICULTURE

Forest Service

National Urban and Community Forestry Advisory Council Meetings

AGENCY: Forest Service, USDA.

ACTION: Notice of meeting.

SUMMARY: The National Urban and Community Forestry Advisory Council will meet on November 5 and 6, 2013. The meeting will be held in Pittsburgh, PA, at the Westin Convention Center Pittsburgh. The purpose of this meeting is to present past grant projects the Council recommended to the public and those attending the Partners in Community Forestry Conference; finalize their annual accomplishment and recommendations report to the Secretary; address items related to the urban forestry 10-year action plan; finalize the 2015 Urban and Community Forestry grant categories and listen to local constituents urban forestry concerns.

DATES: The meeting will be held on November 5 and 6, 2013, from 1:00 p.m. to 5:00 p.m. each day or until Council business is completed.

ADDRESSES: The meeting on both days will be held at the Westin Convention Center Pittsburgh, 1000 Penn Ave., Pittsburgh, PA 15222.

Written comments concerning this meeting should be addressed to Nancy Stremple, Executive Staff, National Urban and Community Forestry Advisory Council, 1400 Independence Ave. SW., MS-1151, Washington, DC 20250-1151. Comments may also be sent via email to nstremple@fs.fed.us, or via facsimile to 202-690-5792.

All comments, including names and addresses when provided, are placed in the record and are available for public inspection and copying. Visitors wishing to view these documents are encouraged to call ahead to facilitate entry into the USDA Forest Service temporary address: 1621 North Kent Street, RPE, 9th Floor, Rosslyn,VA 22209.

FOR FURTHER INFORMATION CONTACT: Nancy Stremple, Executive Staff, National Urban and Community Forestry Advisory Council, 1400 Independence Ave. SW., MS-1151, Washington, DC 20250-1151, desk phone 202-205-7829, or cell phone 202-309-9873, email: nstremple@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The meeting is open to the public. Those interested in attending should contact Nancy Stremple to be placed on the meeting attendance list. Meeting attendees should check-in at the registration table on the second floor of the hotel. Conference staff will direct attendees to the meeting room location. Please contact the hotel directly for directions and parking information. The Westin Convention Center Pittsburgh number is 412 560-6331.

Council discussion is limited to Forest Service staff and Council members; however, persons who wish to bring urban and community forestry matters to the attention of the Council may file written statements with the Council Executive Staff (1400 Independence Ave. SW., MS-1151, Washington, DC 20250-1151, email: nstremple@fs.fed.us) before or after the meeting. Public input sessions will be provided at the meeting.

Meeting Accommodations: If you are a person requiring reasonable accommodation, please make a request in advance for sign language interpreting, assistive listening devices or other reasonable accommodation for access to the facility or procedings by contacting the person listed under For Further Information Contact. All reasonable accommodation requests are managed on a case by case basis.

Dated: September 19, 2013.
James E. Hubbard,
Deputy Chief, Stste and Private Forestry.

[FR Doc. 2013-23395 Filed 9-24-13; 8:45 am]

BILLING CODE 3410-11-P